DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of May, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,993; Jake Shook Logging, Inc., Newcastle, WY

TA-W-38,221; Northwest Fourslide, Inc., Sherwood, OR

TA-W-38,917; Meade Industrial Service, Inc., Boardman, OH

TA-W-38,872; J. Paul Levesque and Sons, Inc., Ashland, ME

In the following cases, the investigation revealed that the criteria for eligibility have not been met for the reasons specified.

Increased imports did not contribute importantly to worker separations at the firm.

TA-W-39,206; Semitool, Inc., Corp., Headquarters, Kallispell, MT and A; Semitool California, San Jose, CA, B; Semitool Western Office, Beaverton, OR, C; Semitool Central Office, Dallas, TX, D; Semitool Austin, Austin, TX, E; Semitool Southwest, Temple, AZ, F; Semitool Southeast, Cary, NC, G; Semitool Northeast, Nashua, NH, H; Libby Plant, Libby, MT

TA-W-38,916; Levelor Home Fashions, Rockaway, NJ

TA-W-38,734; Quadion Co., Minnesota Rubber Div., Mason City, IA

TA-W-39,034; Therm-O-Disc, Inc., El Paso, TX

TA-W-39,023; Texas Instruments Automotive Sensors and Controls San Jose, Inc., San Jose, CA

TA-W-38,969; Textron Gulf, Turf Care and Specialty Products, Racine, WI

TA-W-39,321; Stork RPM, Inc., Tescumbia, AL

TA-W-38,910; Metaldyne Sintered Components, Ridgway, PA

Affirmative Determinations for Worker Adjustment Assistance

The following certifications have been issued; the date following the company name and location of each determination references the impact date for all workers of such determination.

TA-W-39,262; United Plastics Group, Inc., Anaheim, CA: April 30, 2000.

TA-W-38,727; Edscha, Jackson Division, Jackson, MI: January 30, 2000.

TA-W-39,102; Boyt Harness Co., Osceola, IA: April 4, 2000.

TA-W-38,711 & A; Hart Schaffner and Marx, Rochester, IN and Winchester, KY: February 8, 2000.

TA-W-38,410; Editorial America, Virginia Gardens, FL: November 28, 1999.

TA-W-38,920; Color Edge, Inc., Sturgis, MI: March 12, 2000.

TA-W-38,795; Donkenny Apparel, Wytheville, VA, TN: March 19, 2000.

TA-W-39,290; Sonoco Industrial Products Div., Shepherd, MI: May 4, 2000.

TA-W-38,924; Lexington Fabrics, Inc., Central Div., Florence, AL: March 12, 2000.

TA-W-39,108; Beam-Stream, Inc., Montpelier, OH: April 20, 2000.

TA-W-38,906; O and P Tailor, Inc., a/k/a Bullet Creek Garment Co., Inc., Tellico Plains, TN: March 12, 2000.

TA-W-39,020; Magnesium Corp., of America, Salt Lake City, UT: April 3, 2000.

TA-W-39,042 & A, B; Agilent Technologies, Basic Electronics Systems and Test Unit, Loveland, CO, Design Validation Unit, Colorado Springs, CO, Network System and Test Div., Colorado Springs, CO: March 30, 2000.

TA-W-38,658 & A; Mirro Co., Division of Newell-Rubbermaid, Mirro/Foley Plant 20, Chilton, WI and Mirro/Foley Plant 10, Manitowoc, WI: January 24, 2000.

TA-W-39,146; VF Imagewear (West), Inc., VF Workwear, Inc., Brownsville, TX: April 6, 2000.

TA-W-38,780; Tecumseh Products Co., Somerset, KY: February 13, 2000.

TA-W-38,632; Intertrade Holdings, Inc., Acid Plant, Copperhill, TN: January 9, 2000.

TA-W-39,213; Chicago Specialties, LLC, Chicago, IL: April 23, 2000.

TA-W-38,978; Americo Group, Inc., New York, NY: March 22, 2000.

Also, pursuant to Title V of the North American Free Trade Agreement Implementation Act (P.L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of May, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases in ports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04675; Specialty Plastic Products, Louisville, TN

NAFTA-TAA-04648; Nucor Bearing Products, Wilson, NC

NAFTA-TAA-04796; Erie Coke Corp., Erie, PA

NAFTA-TAA-04696; Americo Group, Inc., New York, NY

NAFTA-TAA-04803; Northwest Fourslide, Inc., Sherwood, OR

NAFTA-TAA-04562; Quadion Company/Minnesota Rubber Div., Mason City, IA

NAFTA-TAA-04747; Therm-O-Disc, Inc., El Paso, TX

NAFTA-TAA-04808; Texas Instruments Automotive Sensors and Controls San Jose, Inc., San Jose, CA

The investigation revealed that the criteria for eligibility have not been met for the reasons specified.

The workers firm does not produce an article as required for certification under Section 222 of the Trade Act of 1974.

NAFTA-TAA-04762; Cendant Montana, Alliance Marketing Div., Great Falls, MT.

Affirmative Determinations NAFTA-TAA

NAFTA-TAA-04835; E.I. DuPont, Nylon Div., Camden, SC: April 23, 2000.

NAFTA-TAA-04753; Rubbermaid Cleaning Products, Greenville, NC: April 10, 2000.

NAFTA-TAA-04851; United Plastics Group, Inc., Anaheim Div., Anaheim, CA: May 1, 2000.

NAFTA-TAA-04594; Edscha, Jackson Div., Jackson, MI: February 13, 2000.

NAFTA-TAA-04498; Intertrade Holdings, Inc., Acid Plant, Copperhill, TN: January 11, 2000.

NAFTA-TAA-04789; VF IMagewear (West), Inc., Formerly CF Workwear, Inc., Brownsville, TX: April 9, 2000.

NAFTA-TAA-04863; Vapor Corp., Niles, IL: May 8, 2000.

NAFTA-TAA-04862; Nutech Environmental Corp., Denver, CO: April 26, 2000.

NAFTA-TAA-04678; Color Edge, Inc., Sturgis, MI: March 12, 2000.

NAFTA-TAA-04681 & A; Hart Schaffner and Marx, Rochester, IN and Winchester, KY: March 19, 2000.

NAFTA-TAA-04817; Square D Co., Ashville, NC: April 27, 2000.

NAFTA-TAA-304712; Lexington Fabrics, Inc., Central Div., Florence, AL: April 3, 2000.

I hereby certify that the aforementioned determinations were issued during the month of May, 2001. Copies of these determinations are available for inspection in Room C-5311, U.S. Department of Labor, 200 Constitution Avenue, NW., Washington, DC 20210 during normal business hours or will be mailed to persons who write to the above address.

Dated: June 5, 2001.
Edward A. Tomchick,
Director, Division of Trade Adjustment Assistance.

[FR Doc. 01-15043 Filed 6-13-01; 8:45 am]

BILLING CODE 4510-30-M